DEPARTMENT OF JUSTICE

Notice of Lodging of Consent Decrees Under the Comprehensive Environmental Response, Compensation, and Liability Act

Notice is hereby given that on January 5, 2001, a proposed consent decree in United States v. Reland Mark Johnson, Civ. Action No. 01-CV-005 (D.WY) was lodged with the United States District Court for the District of Wyoming.

In this action, the United States is recovering past response costs, pursuant to the Comprehensive Environmental Response, Compensation, and Liability Act (“CERCLA”), 42 U.S.C. 9601 et seq. in connection with the R. J. Refinery Site located in La Barge, Wyoming. The consent decree that was lodged would resolve the United States' claims against Reland Mark Johnson (“Johnson”). Johnson will pay to the United States $5,000 to resolve claims against him and the settlement is based on Johnson's limited financial resources. The consent decree includes covenants not to sue by the United States under section 107 of CERCLA.

The Department of Justice will receive for a period of thirty (30) days from the date of this publication comments relating to the proposed consent decree. Comments should be addressed to the Assistant Attorney General of the Environment and Natural Resources Division, PO Box 7611, U.S. Department of Justice, Washington, DC 20044, Department of Justice, Washington, DC 20530, and should refer to United States v. Johnson, D.J. Ref. 90-11-3-07235. The proposed consent decree may be examined at the Office of the United States Attorney, 2120 Capitol Ave. Cheyenne, WY, and at U.S. EPA Region VIII, 999 18th Street, Denver, CO 80202-2405. A copy of the consent decree may also be obtained by mail from the Consent Decree Library, P.O. Box 7611, U.S. Department of Justice, Washington, DC 20044-7611. In requesting a copy, please enclose a check in the amount of $4.25 (25 cents per page reproduction cost) payable to the Consent Decree Library.

Bob Brook,
Assistant Section Chief, Environmental Enforcement Section, Environment and Natural Resources Division.

[FR Doc. 01-4061 Filed 2-16-01; 8:45 am]

BILLING CODE 4410-15-M